DEPARTMENT OF TRANSPORTATION

Federal Aviation Administration

14 CFR Part 73

[Docket No. FAA-2024-2259; Airspace Docket No. 24-AEA-8]

RIN 2120-AA66

Amendment of Restricted Area R-6611A, R-6611B, R-6613A, and R-6613B; Dahlgren Complex, VA

AGENCY: Federal Aviation Administration (FAA), DOT.

ACTION: Final rule; technical amendment.

SUMMARY: This action amends restricted area R-6611A, R-6611B, R-6613A, and R-6613B, Dahlgren Complex, VA, by amending the internal altitude sub-divisions to match daily mission requirements and updates the using agency description to conform to current formatting standards.

DATES: Effective date 0901 UTC, December 26, 2024.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends restricted area airspace at Dahlgren Complex, VA, to enhance aviation safety and accommodate essential United States (U.S.) Navy activities.

Background

Washington Air Route Traffic Control Center (ARTCC) initiated a request to the U.S. Navy Naval Surface Warfare Center, Dahlgren Division, who concurred, to modify the internal altitude that vertically subdivides restricted areas R-6611A and R-6611B; and R-6613A and R-6613B to align with daily mission requirements and common usage.

Restricted area R-6611A and R-6611B share the same external boundary that overlay each other. Restricted area R-6611A had designated altitudes from the surface to 40,000 feet mean sea level (MSL), and restricted area R-6611B had designated altitudes from 40,000 feet MSL to 60,000 feet MSL. This action changes the internal vertical subdivision from 40,000 feet MSL to 10,000 feet MSL.

Restricted area R-6613A and R-6613B share the same external boundary that overlay each other. Restricted area R-6613A had designated altitudes from the surface to 40,000 feet MSL, and restricted area R-6613B had designated altitudes from 40,000 feet MSL to 60,000 feet MSL. This action changes the internal vertical subdivision from 40,000 feet MSL to 10,000 feet MSL.

These changes do not represent any changes in lateral boundaries, operations, or new equipment being utilized in the airspace; nor does it reflect any increase in the number of operations that would be conducted.

The Rule

This action amends 14 CFR part 73 by amending restricted area R-6611A, R-6611B, R-6613A, and R-6613B internal altitude sub-divisions and updates the using agency description to conform to current formatting standards.

Restricted areas R-6611A and R-6611B share common boundaries that overlay each other. The designated altitudes for R-6611A are changed to “surface to but not including 10,000 feet MSL”. The designated altitudes for R-6611B are changed to “10,000 feet MSL to 60,000 feet MSL”.

Restricted areas R-6613A and R-6613B share common boundaries that overlay each other. The designated altitudes for R-6613A are changed to “surface to but not including 10,000 feet MSL”. The designated altitudes for R-6613B are changed to “10,000 feet MSL to 60,000 feet MSL”.

Additionally, the FAA updates the using agency for restricted areas R-6611A, R-6611B, R-6613A, and R-6613B to “U.S. Navy, Commander, Naval Surface Weapons Center, Dahlgren, VA”.

This action consists of administrative internal altitude changes and minor technical amendments only and does not affect the boundaries, altitudes, time of designation, or activities conducted in the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending internal altitude sub-divisions in R-6611A, R-6611B, R-6613A, and R-6613B, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5d—Modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p.389.

§ 73.66 Virginia (VA) [Amended]

2. Section 73.66 is amended as follows:

* * * * *

R-6611A Dahlgren Complex, VA [Amended]

Boundaries. Beginning at Lat. 38°21′30″ N, long. 077°01′14″ W; to Lat. 38°17′30″ N, long. 076°55′59″ W; to Lat. 38°15′45″ N, long. 076°51′59″ W; to Lat. 38°13′00″ N, long. 076°54′34″ W; to Lat. 38°19′15″ N, long. 077°01′59″ W; to the point of beginning.

Designated Altitudes. Surface to but not including 10,000 feet MSL.

Time of designation. 0800-1700 hours local time, Monday-Friday. Other times by NOTAM issued 48 hours in advance.

Controlling agency. FAA, Washington ARTCC.

Using agency. U.S. Navy, Commander, Naval Surface Weapons Center, Dahlgren, VA.

R-6611B Dahlgren Complex, VA [Amended]

Boundaries. Beginning at Lat. 38°21′30″ N, long. 077°01′14″ W; to Lat. 38°17′30″ N, long. 076°55′59″ W; to Lat. 38°15′45″ N, long. 076°51′59″ W; to Lat. 38°13′00″ N, long. 076°54′34″ W; to Lat. 38°19′15″ N, long. 077°01′59″ W; to the point of beginning.

Designated Altitudes. 10,000 feet MSL to 60,000 feet MSL.

Time of designation. By NOTAM issued 48 hours in advance.

Controlling agency. FAA, Washington ARTCC.

Using agency. U.S. Navy, Commander, Naval Surface Weapons Center, Dahlgren, VA.

* * * * *

R-6613A Dahlgren Complex, VA [Amended]

Boundaries. Beginning at Lat. 38°15′45″ N, long. 076°51′59″ W; to Lat. 38°13′30″ N, long. 076°46′34″ W; to Lat. 38°10′00″ N, long. 076°49′59″ W; to Lat. 38°13′00″ N, long. 076°54′34″ W; to the point of beginning.

Designated Altitudes. Surface to but not including 10,000 feet MSL.

Time of designation. 0800-1700 hours local time, Monday-Friday. Other times by NOTAM issued 48 hours in advance.

Controlling agency. FAA, Washington ARTCC.

Using agency. U.S. Navy, Commander, Naval Surface Weapons Center, Dahlgren, VA.

R-6613B Dahlgren Complex, VA [Amended]

Boundaries. Beginning at Lat. 38°15′45″ N, long. 076°51′59″ W; to Lat. 38°13′30″ N, long. 076°46′34″ W; to Lat. 38°10′00″ N, long. 076°49′59″ W; to Lat. 38°13′00″ N, long. 076°54′34″ W; to the point of beginning.

Designated Altitudes. 10,000 feet MSL to 60,000 feet MSL.

Time of designation. By NOTAM issued 48 hours in advance.

Controlling agency. FAA, Washington ARTCC.

Using agency. U.S. Navy, Commander, Naval Surface Weapons Center, Dahlgren, VA.

* * * * *

Issued in Washington, DC, on October 18, 2024.
Frank Lias,
Manager, Rules and Regulations Group.

[FR Doc. 2024-24592 Filed 10-23-24; 8:45 am]

BILLING CODE 4910-13-P